DEPARTMENT OF JUSTICE

Parole Commission

Sunshine Act Meeting Pursuant to the Government in the Sunshine Act (Public Law 94-409) (5 U.S.C. 552b)

Agency Holding Meeting Department of Justice, United States Parole Commission.

Time and Date: 2:30 p.m., Thursday, July 28, 2005.

Place: 5550 Friendship Blvd., Fourth Floor, Chevy Chase, MD 20815.

Status: Open.

Matters to Be Considered: The following matter has been placed on the agenda for the open Parole Commission meeting:

Rule amendments for reviewing future requests from the Attorney General for reconsideration of a Commission decision.

Agency Contact: Thomas W. Hutchinson, Chief of Staff, United States Parole Commission, (301) 492-5900.

Dated: July 21, 2005.
Rockne Chickinell,
General Counsel, U.S. Parole Commission.

[FR Doc. 05-14798 Filed 7-22-05; 11:09 am]

BILLING CODE 4410-31-M